DEPARTMENT OF THE INTERIOR

Bureau of Land Management

[ES-030-07-1320-EL; WVES-50560; WVES-50556]

Notice of Extension of the East Lynn Lake Coal Lease Draft Land Use Analysis and Draft Environmental Impact Statement; Coal Lease Applications WVES-50556 and WVES-50560, Wayne County, WV

AGENCY: Bureau of Land Management, Interior.

ACTION: Notice of Comment Period Extension.

SUMMARY: The Bureau of Land Management (BLM) is announcing an extension of the comment period on the East Lynn Lake Coal Lease Draft Land Use Analysis and Draft Environmental Impact Statement (DLUA/DEIS) to analyze the potential impacts of two Federal Coal Lease By Applications, WVES-50556 and WVES-50560, totaling 13,089.55 acres at the U.S. Army Corps of Engineers' East Lynn Lake Project in Wayne County, West Virginia, and by this notice is announcing the extension of the comment period. The original notice published in the Federal Register on June 27, 2008 [73 FR 125] provided for a comment period to end on September 24, 2008. An amended notice published on July 3, 2008 [73 FR 129] provided a correction to the project's state location from Virginia to West Virginia.

DATES: The BLM is extending the comment period for 45 days ending on November 10, 2008.

ADDRESSES: The DLUA/DEIS is posted on the Internet at http://www.blm.gov/es/st/en/prog/east_lynn_lake_coal/DLUA_DEIS.html. You may submit comments by any of the following methods:

• E-mail: EastLynnLakeComments@blm.gov.

• Mail: BLM Milwaukee Field Office, Attn: Chris Carusona, 626 E. Wisconsin Ave., Suite 200, Milwaukee, WI 53202.

• Facsimile: 414-297-4409, Attn: Chris Carusona.

Comments, including names and addresses of respondents, will be available for public review at the Milwaukee BLM Field Office, and will be subject to disclosure under the Freedom of Information Act. Before including your address, phone number, e-mail address, or other personal identifying information in your comment, be advised that your entire comment—including your personal identifying information—may be made publicly available at any time. While you can ask us in your comment to withhold from public review your personal identifying information, we cannot guarantee that we will be able to do so. All submissions from organizations and businesses, and from individuals identifying themselves as representatives or officials of organizations or businesses, will be available for public inspection in their entirety.

FOR FURTHER INFORMATION CONTACT: Chris Carusona, Planning and Environmental Coordinator, at 414-297-4463.

SUPPLEMENTARY INFORMATION: The original Notice of Availability provided for comments on the DLUA/DEIS to be received through September 24, 2008. The BLM received requests for an extension of the comment period from individuals and groups. The BLM has reviewed these requests. Comments on the DLUA/DEIS will now be accepted through November 10, 2008.

Dated: September 3, 2008.
A. Barron Bail,
BLM ES, Acting State Director.

[FR Doc. E8-20888 Filed 9-8-08; 8:45 am]

BILLING CODE 4310-GJ-P